DEPARTMENT OF HOMELAND SECURITY

Coast Guard

33 CFR Part 165

[Docket No. USCG-2016-0709]

Safety Zones; Point to LaPointe Swim, Lake Superior, LaPointe, WI

AGENCY: Coast Guard, DHS.

ACTION: Notice of enforcement of regulation.

SUMMARY: The Coast Guard will enforce the Safety Zone for the Point to LaPointe Swim in LaPointe, WI on August 6, 2016. This action is necessary to protect participants and spectators during the Point to LaPointe Swim in Lake Superior between Bayfield, WI and LaPointe, WI. During the enforcement period, entry into, transiting, or anchoring within the safety zone is prohibited unless authorized by the Captain of the Port Duluth or his designated on-scene representative.

DATES: The regulations in 33 CFR 165.943(b) will be enforced from 7:15 a.m. through 10:15 a.m. on August 6, 2016.

FOR FURTHER INFORMATION CONTACT: If you have questions about this notice of enforcement, call or email Lieutenant Junior Grade John Mack, Waterways Management Division, Coast Guard; telephone (218) 725-3818, email John.V.Mack@uscg.mil

SUPPLEMENTARY INFORMATION: The Coast Guard will enforce a safety zone for the annual Point to LaPointe Swim in 33 CFR 165.943(a)(7) from 7:15 a.m. until 10:15 p.m. August 6, 2016. This safety zone will include all waters between Bayfield, WI and Madeline Island, WI within an imaginary line created by the following coordinates: 46°48′50.97″ N., 090°48′44.28″ W., moving southeast to 46°46′44.90″ N., 090°47′33.21″ W., then moving northeast to 46°46′52.51″ N., 090°47′17.14″ W., then moving northwest to 46°49′03.23″ N., 090°48′25.12″ W. and finally running back to the starting point.

Entry into, transiting, or anchoring within the safety zone is prohibited unless authorized by the Captain of the Port Duluth or his designated on-scene representative. The Captain of the Port's designated on-scene representative may be contacted via VHF Channel 16.

This notice is issued under authority of 33 CFR 165.943 and 5 U.S.C. 552(a). In addition to this notice in the Federal Register, the Coast Guard will provide the maritime community with advance notification of the enforcement of this safety zone via Broadcast Notice to Mariners.

Dated: July 29, 2016.
E. E. Williams,
Commander, U.S. Coast Guard, Captain of the Port, Duluth.

[FR Doc. 2016-18480 Filed 8-5-16; 8:45 am]

BILLING CODE 9110-04-P